DEPARTMENT OF TRANSPORTATION

Office of the Secretary

[Docket No. DOT-OST-2018-0190]

Advisory Committee on Aviation Consumer Protection Matters; Subcommittee on In-Flight Sexual Misconduct

AGENCY: Office of the Secretary (“OST”), Department of Transportation (“DOT”).

ACTION: Notice of reestablishment and first meeting of the Aviation Consumer Protection Advisory Committee.

SUMMARY: The Department of Transportation (“Department”) has reestablished the Aviation Consumer Protection Advisory Committee (“ACPAC” or “Committee”), formerly known as the Advisory Committee on Aviation Consumer Protection, as a Federal advisory committee. The Department has also established a National In-Flight Sexual Misconduct Task Force (“Task Force”) as an ACPAC Subcommittee. The Task Force will develop recommendations for the ACPAC's consideration on best practices and protocols for air carriers relating to training, reporting, and data collection of sexual assault onboard commercial aircraft. The Department anticipates the first meeting of the ACPAC will be held on January 16, 2019. The meeting will be held in the Media Center (located on the lobby level of the West Building) at the U.S. Department of Transportation Headquarters,1200 New Jersey Ave, SE, Washington, DC 20590. Three topics will be discussed at that meeting—(1) establishment of the Task Force (including the tasks to be carried out by the Task Force); (2) transparency of airline ancillary service fees; and (3) involuntary changes to travel itineraries.

DATES: The first meeting of the reestablished ACPAC will be held on January 16, 2019, from 9:00 a.m. to 4:00 p.m. Eastern Time.

FOR FURTHER INFORMATION CONTACT: To register to attend the meeting, please contact Stuart Hindman, Senior Attorney, Office of Aviation Enforcement and Proceedings, by email at stuart.hindman@dot.gov, or by telephone at 202-366-9342; or Zeenat Iqbal, Senior Attorney, Office of Aviation Enforcement and Proceedings, by email at zeenat.iqbal@dot.gov, or by telephone at 202-366-9893. Attendance is open to the public up to the room's capacity of 100 attendees. Since space is limited and access to the DOT headquarters building is controlled for security purposes, any member of the general public who plans to attend this meeting must notify the registration contact identified no later than Wednesday, January 2, 2019.

SUPPLEMENTARY INFORMATION:

Background

On May 24, 2012, the Department established an advisory committee on aviation consumer protection, known as the Advisory Committee on Aviation Consumer Protection, as mandated by section 411 of the FAA Modernization and Reform Act of 2012 (Pub. L. 112-95, 126 Stat. 11 (2012)) (2012 FAA Act) and the Federal Advisory Committee Act (FACA), as amended. The original Committee held nine meetings and examined a broad range of issues affecting consumers. The Committee has contributed significantly to the Department's aviation consumer protection program as it provides a forum for stakeholders, including representatives of airlines, airports and consumers, to discuss important consumer issues.

The statutory termination date for the Committee was originally established by the 2012 FAA Act as September 30, 2015, but has been extended several times, most recently by the FAA Reauthorization Act of 2018 (Pub. L. No: 115-254) (2018 FAA Act) to the current termination date of September 30, 2023.

The Department has updated the Committee's charter to clarify that the Committee's work should concern aviation consumer protection issues that fall within the current statutory authority of the Department and establish a subcommittee to be called the “National In-Flight Sexual Misconduct Task Force.”

Appointment of New Members

The Secretary has appointed four new members to the Committee. The appointed members are: (1) Patricia Vercelli, General Counsel, Airlines for America, as the airline representative; (2) Mario Rodriguez, Executive Director of the Indianapolis Airport Authority, as the airport operator representative; (3) Pete K. Rahn, Maryland Secretary of Transportation, as the State or local government representative; and (4) Frances Smith, Adjunct Fellow, Competitive Enterprise Institute, as the consumer representative. Mr. Rahn will serve as the Chair of the Committee. The Department chose the Committee members based on two main criteria: (1) Representativeness (does the individual represent one of the four groups mentioned above); and (2) expertise (does the individual bring essential knowledge, expertise, or experience regarding consumer protection).

National In-Flight Sexual Misconduct Task Force Subcommittee

Recent reports of increased incidents of sexual assault and misconduct onboard aircraft have highlighted concerns regarding the response to such incidents. The Joint Explanatory Statement of the 2018 Consolidated Appropriations Act requested that the Department establish a Task Force to provide recommendations in this area. In addition, the Task Force is mandated by the 2018 FAA Act. Accordingly, a Task Force has been established as a subcommittee under the ACPAC to consider best practices and protocols for air carriers relating to training, reporting, and data collection of sexual misconduct by passengers onboard commercial aircraft. The Task Force will include representatives from the Department of Transportation, Department of Justice (including the Federal Bureau of Investigations, Office of Victims of Crime and Office on Violence Against Women), Department of Health and Human Services, national organizations which specialize in providing services to sexual assault victims, national consumer protection organizations, national travel organizations, labor organizations representing flight attendants and pilots, State and local law enforcement agencies, airports, and air carriers. As a subcommittee, the Task Force will report its recommendations to the ACPAC for deliberation and not provide its recommendations directly to the Department. The Task Force's report of its findings and recommendations to the ACPAC will be released to the public.

ACPAC Administrative Matters; Upcoming Meeting; and Topics

The first meeting of the reestablished ACPAC will take place at the Department's headquarters in Washington, DC on January 16, 2019. During the first meeting, the Department will announce the members of the Task Force and there will be a discussion of the duties of the Task Force members. In addition, two other topics—the transparency of airline ancillary service fees and involuntary changes to itineraries—will be discussed. The Joint Explanatory Statement of the 2018 Consolidated Appropriations Act requests that the Department work in collaboration with industry, consumers and other stakeholders to establish guidelines on transparency of airline ancillary fees. In addition, the 2018 FAA Act mandates that the Department review and make recommendations with regard to air carriers' handling of involuntary changes to passengers' travel itineraries, and that the Department may consult with the Committee for this purpose. Accordingly, the Committee will discuss these issues during the meeting.

The Department's Office of Aviation Enforcement and Proceedings, within the Office of the General Counsel, will provide appropriate funding, logistics, administrative, and technical support for the Committee. The Department's subject matter experts will also provide support to the Committee.

Viewing Documents

You may view any documents mentioned in this preamble as being available in the docket at http://www.regulations.gov. After entering the docket number, click the link to “Open Docket Folder” and choose the document to review. If you do not have access to the internet, you may view the docket online by visiting the Docket Management Facility in Room W12-140 on the ground floor of the DOT West Building, 1200 New Jersey Avenue SE, Washington, DC 20590, between 9 a.m. and 5 p.m., E.T., Monday through Friday, except Federal holidays.

Dated: November 8, 2018.
Steven G. Bradbury,
General Counsel.

[FR Doc. 2018-25508 Filed 11-21-18; 8:45 am]

BILLING CODE 4910-P